DEPARTMENT OF LABOR

Employment and Training Administration

[TA-W-60,118]

American Uniform Company, Cleveland, TN; Notice of Termination of Investigation

Pursuant to Section 221 of the Trade Act of 1974, as amended, an investigation was initiated on September 21, 2006 in response to a worker petition filed by a company official on behalf of workers at American Uniform Company, Cleveland, Tennessee.

The petitioner has requested that the petition be withdrawn. Consequently, the investigation has been terminated.

Signed at Washington, DC, this 25th day of September, 2006.
Elliott S. Kushner,
Certifying Officer, Division of Trade Adjustment Assistance.

[FR Doc. E6-16104 Filed 9-29-06; 8:45 am]

BILLING CODE 4510-30-P